DEPARTMENT OF JUSTICE

Notice of Lodging of Proposed Consent Decree

In accordance with Departmental Policy, 28 CFR 50.7, notice is hereby given that a proposed Consent Decree in United States, et al. v. Yuhasz Bros., LLC, Case No. 1:19-cv-1370, was lodged with the United States District Court for the Northern District of Ohio on June 7, 2022.

This proposed Consent Decree concerns a complaint filed by the United States and the State of Ohio against Defendant Yuhasz Bros., LLC, pursuant to Section 309 of the Clean Water Act, 33 U.S.C. 1319, to obtain injunctive relief from the Defendant for violating the Clean Water Act by discharging pollutants without a permit into waters of the United States. The proposed Consent Decree resolves these allegations by requiring the Defendant to restore the impacted areas and/or perform mitigation.

The Department of Justice will accept written comments relating to the proposed Consent Decree for thirty (30) days from the date of publication of this Notice. Please address comments to Perry Rosen, Environment and Natural Resources Division, United States Department of Justice, Post Office Box 7611, Washington, DC 20044, pubcomment_eds.enrd@usdoj.gov, and refer to United States, et al. v. Yuhasz Bros., LLC, DJ # 90-5-1-1-21439.

The proposed Consent Decree may be examined at the Clerk's Office, United States District Court for the Northern District of Ohio, located at 801 West Superior Avenue, Cleveland, OH 44113. In addition, the proposed Consent Decree may be examined electronically at https://www.justice.gov/enrd/consent-decrees.

Cherie Rogers,
Assistant Section Chief, Environmental Defense Section, Environment and Natural Resources Division.

[FR Doc. 2022-12701 Filed 6-14-22; 8:45 am]

BILLING CODE 4410-CW-P